DEPARTMENT OF ENERGY

Federal Energy Regulatory Commission

Sunshine Act Meeting Notice

October 13, 2011.

The following notice of meeting is published pursuant to section 3(a) of the government in the Sunshine Act (Pub. L. No. 94-409), 5 U.S.C. 552b:

AGENCY HOLDING MEETING: Federal Energy Regulatory Commission.

DATE AND TIME: October 20, 2011, 10 a.m.

PLACE: Room 2C, 888 First Street, NE., Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

974th—Meeting, Regular Meeting, October 20, 2011, 10 a.m.
Item No. | Docket No. | Company
ADMINISTRATIVE
A-1 | AD02-1-000 | Agency Business Matters.
A-2 | AD02-7-000 | Customer Matters, Reliability, Security and Market Operations.
A-3 | AD05-9-001 | Winter 2011-12 Market Reliability Assessment.
ELECTRIC
E-1 | RM11-17-000 | Enhancement of Electricity Market Surveillance and Analysis through Ongoing Electronic Delivery of Data from Regional Transmission Organizations and Independent System Operators.
E-2 | RM11-18-000 | Transmission Planning Reliability Standards.
E-3 | RM11-20-000 | Automatic Underfrequency Load Shedding and Load Shedding Plans Reliability Standards.
E-4 | RR11-7-000 | North American Electric Reliability Corporation.
E-5 | OMITTED |
E-6 | RD11-9-000 | North American Electric Reliability Coporation.
E-7 | RD11-8-000 | North American Electric Reliability Corporation.
E-8 | NP10-160-001 | North American Electric Reliability Corporation.
E-9 | EL05-121-006 | PJM Interconnection, L.L.C.
E-10 | ER10-1401-001, ER10-2191-001, ER11-2705-000 ER11-2705-001 | California Independent System Operator Corporation
| EL10-76-001 | Green Energy Express LLC and 21st Century Transmission Holdings, LLC.
E-11 | ER10-1791-001, ER10-1791-002 | Midwest Independent Transmission System Operator, Inc.
E-12 | ER10-1069-001 | Southwest Power Pool, Inc.
E-13 | ER11-3627-000 | Southwest Power Pool, Inc.
E-14 | ER11-4358-000 | Southern California Edison Company.
| ER11-4512-000 | California Independent System Operator Corporation.
E-15 | ER11-4375-000 | City of Pasadena, California.
E-16 | ER11-3735-000 | Puget Sound Energy, Inc.
E-17 | ER11-3881-000, ER11-3881-001 | New York Independent System Operator, Inc.
E-18 | ER11-3891-000 | ISO New England Inc.
E-19 | ER09-1050-006, ER09-1192-005, ER11-121-000 | Southwest Power Pool, Inc.
E-20 | EL11-54-000 | Buckeye Power, Inc. v. American Transmission Systems, Incorporated.
E-21 | ER11-2895-000, ER11-2895-001, ER11-3585-000 | Duke Energy Carolinas, LLC.
E-22 | EL11-30-000 | E.ON Climate & Renewables North America, LLC v. Midwest Independent Transmission System Operator, Inc.
E-23 | ER10-1706-001, ER10-1706-002 | California Independent System Operator Corporation.
E-24 | ER03-563-067 | Devon Power LLC.
E-25 | EL01-88-007 | Louisiana Public Service Commission v. Entergy Services, Inc.
E-26 | EL01-88-008 | Louisiana Public Service Commission v. Entergy Services, Inc.
E-27 | EL09-50-000 | Louisiana Public Service Commission v. Entergy Corporation, Entergy Services, Inc., Entergy Louisiana, L.L.C., Entergy Arkansas, Inc., Entergy Mississippi, Inc., and Entergy New Orleans, Inc.
E-28 | RM11-7-000, AD10-11-000 | Frequency Regulation Compensation in the Organized Wholesale Power Markets.
GAS
G-1 | AC10-22-004, AC10-22-000, AC10-22-001, AC10-22-003 | Colorado Interstate Gas Company.
G-2 | RP11-60-002, RP11-60-003 | Southern Natural Gas Company.
G-3 | RP11-1538-001 | Natural Gas Supply Association, American Forest and Paper Association, American Public Gas Association, Independent Petroleum Association of America, and Process Gas Consumers Group.
HYDRO
H-1 | P-12626-003, P-12717-003 | Northern Illinois Hydropower, LLC.
H-2 | P-2677-020 | City of Kaukauna, Wisconsin.
H-3 | P-14105-000 | Kahawai Power 4, LLC.
| P-14203-000 | Kekaha Ditch Hydro, LLC.
H-4 | P-9202-177 | Upper Yampa Water Conservancy District.
H-5 | P-2210-212 | Appalachian Power Company.
CERTIFICATES
C-1 | CP11-128-000, CP11-133-000 | National Fuel Gas Supply Corporation Tennessee Gas Pipeline Company.
C-2 | CP11-1-001, RP11-2201-000 | Pine Prairie Energy Center, LLC.

Kimberly D. Bose,
Secretary.

A free webcast of this event is available through http://www.ferc.gov. Anyone with Internet access who desires to view this event can do so by navigating to http://www.ferc.gov' s Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2011-26983 Filed 10-14-11; 11:15 am]

BILLING CODE 6717-01-P